FEDERAL COMMUNICATIONS COMMISSION

47 CFR Part 73

[DA 04-1650; MM Docket No. 02-290; RM-10527, RM-10772, RM-10773]

Radio Broadcasting Services; Beaver, UT, Coalville, UT, Dinosaur, CO, Elsinore, UT, Fort Bridger, WY, Franklin, ID, Green River, WY, Lyman, WY, Manila, UT, Monroe, UT, Nephi, UT, Preston, ID, Rangely, CO, Richfield, UT, Rock Springs, WY, Saratoga, WY, Smithfield, UT Tremonton, UT, and Wamsutter, WY

AGENCY: Federal Communications Commission.

ACTION: Final rule.

SUMMARY: In response to proposals in this proceeding filed by Rural Pima Broadcasting, Millcreek Broadcasting, LLC, 3 Point Media-Franklin, LLC, Sanpete County Broadcasting Company, M. Kent 3 Point Media-Utah, LLC, this document grants multiple channels substitutions and changes of community of license in Utah, Colorado, Idaho and Wyoming. Specifically, this document substitutes Channel 248C for Channel 248C1 at Franklin, Idaho, reallots Channel 248C to Coalville, Utah, and modifies the Station KTPM license to specify operation on Channel 248C at Coalville. To replace the loss of the sole local service at Franklin, this document substitutes Channel 255C3 for Channel 256C1 at Fort Bridger, Wyoming, reallots Channel 255C3 to Franklin, Idaho, and modifies the Station KNYN license to specify operation on Channel 255C3 at Franklin. In order to replace the loss of the sole local service at Fort Bridger, this document substitutes Channel 280C for Channel 280A at Smithfield, Utah, reallots Channel 280C to Fort Bridger, and modifies the Station KGNT license to specify operation on Channel 280C at Fort Bridger. To replace the loss of the sole local service at Smithfield, this document reallots Channel 244C1 from Preston, Idaho, and modifies the Station KKEX license to specify Smithfield as the community of license. See Supplementary Information.

DATES: Effective July 26, 2004.

FOR FURTHER INFORMATION CONTACT: Robert Hayne, Media Bureau, (202) 418-2177.

SUPPLEMENTARY INFORMATION: This is a synopsis of the Report and Order in MM Docket No.02-290 adopted June 8, 2004, and released June 10, 2004. The full text of this decision is available for inspection and copying during normal business hours in the FCC Reference Information Center at Portals ll, CY-A257, 445 12th Street, SW., Washington, DC. The complete text of this decision may also be purchased from the Commission's copy contractor, Best Copy and Printing, Inc., 445 12th Street, SW., Room CY-B402, Washington, DC 20554, telephone 1-800-378-3160 or www.BCPIWEB.com.

In order to accommodate the Channel 280C at Fort Bridger, this document substitutes Channel 256C for Channel 280C at Nephi, Utah, and modifies the Station KMDG license to specify operation on Channel 256C. Station KMDG changed its callsign to KUDE on December 20, 2003. Station KUDE was granted a license to specify operation on Channel 280C in lieu of Channel 280C1 at Nephi, Utah. See BLH-20011213ABC. This document also substitutes Channel 295C1 for vacant Channel 279C1 at Rangely, Colorado. We note that in MB Docket 02-118, Channel 257C1 was substituted for vacant Channel 279C1. See 67 FR 64553, published October 21, 2002. The FM Table of Allotments currently lists Channel 257C1 at Rangely, Colorado. In order to accommodate Channel 248C at Coalville, this document substitutes Channel 249C for Channel 248C at Richfield, Utah, reallots Channel 249C to Elsinore, Utah, and modifies the license of Station KLGL to specify operation on Channel 249C at Elsinore. In order to accommodate Channel 249C at Elsinore, it substitutes Channel 259A for vacant Channel 246A at Beaver, Utah, and substitutes Channel 266C1 for vacant Channel 247C1 at Dinosaur, Colorado. To accommodate the Channel 266C1 substitution at Dinosaur, it substitutes Channel 234A for vacant Channel 266A at Wamsutter, Wyoming. This document also substitutes Channel 284C for Channel 285C at Tremonton, Utah, reallots Channel 284C to Lyman, Wyoming, and modifies the Station KBNZ license to specify operation on Channel 284C at Lyman. Station KBNZ was granted a construction permit to specify operation on Channel 285C0 in lieu of Channel 285C at Tremonton, which the FM Table of Allotments currently reflects this change. See BLH-20030806ABI. In order to accommodate Channel 284C at Lyman, this document substitutes Channel 259C for Channel 283C at Rock Springs, Wyoming, and modifies the Station KSIT license to specify operation on Channel 259C. To accommodate Channel 259C at Rock Springs, this document substitutes Channel 250C2 for vacant Channel 259C1 at Green River, Wyoming, Channel 282C for vacant Channel 261C at Wamsutter, Wyoming, and Channel 258A for vacant Channel 259A at Saratoga, Wyoming. See 67 FR 63874, October 16, 2002. The reference coordinates for the Channel 248C allotment at Coalville, Utah, are 40-55-46 and 111-00-26. The reference coordinates for the Channel 255C3 allotment at Franklin, Idaho, are 42-10-05 and 111-48-38. The reference coordinates for the Channel 280C2 allotment at Fort Bridger, Wyoming, are 41-19-00 and 110-23-01. The reference coordinates for the Channel 244C1 allotment at Smithfield, Utah, are 41-52-18 and 111-48-31. The reference coordinates for the Channel 256C allotment at Nephi, Utah, are 39-45-37 and 111-34-38. The reference coordinates for the Channel 295C1 allotment at Rangely, Colorado, are 40-05-15 and 108-48-15. The reference coordinates for the Channel 264C2 allotment at Monroe, Utah, are 38-37-21 and 112-07-29. The reference coordinates for the Channel 249C allotment at Elsinore, Utah, are 38-16-23 and 112-09-13. The reference coordinates for the Channel 259A allotment at Beaver, Utah, are 38-16-37 and 112-38-25. The reference coordinates for the Channel 266C1 allotment at Dinosaur, Colorado, are 40-14-42 and 109-00-30. The reference coordinates for the Channel 234A allotment at Wamsutter, Wyoming, are 41-40-18 and 107-58-18. The reference coordinates for the Channel 284C allotment at Lyman, Wyoming, are 40-52-34 and 110. The reference coordinates for the Channel 259C allotment at Rock Springs, Wyoming, are 41-26-00 and 109-07-02. The reference coordinates for the Channel 250C2 allotment at Green River, Wyoming, are 41-31-36 and 109-28-06. The reference coordinates for the Channel 282C allotment at Wamsutter, Wyoming, are 41-44-00 and 108-14-27. The reference coordinates for the Channel 258A allotment at Saratoga, Wyoming, are 41-27-12 and the reference coordinates for the Channel 228A allotment at Manila, Utah, are 40-59-17 and 109-43-19.

List of Subjects in 47 CFR Part 73

Radio, Radio Broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments, under Colorado, is amended by removing Channel 247C1 and by adding Channel 266C1 at Dinosaur; by removing Channel 257C1 and by adding Channel 295C1 at Rangely.

3. Section 73.202(b), the Table of FM Allotments under Idaho, is amended by removing Channel 248C1 and by adding Channel 255C3 at Franklin, and by removing Preston, Channel 244C1.

4. Section 73.202(b), the Table of FM Allotments under Utah, is amended by removing Channel 246A and adding Channel 259A at Beaver; by adding Channel 248C at Coalville; by adding Elsinore, Channel 249C; by adding Manila, Channel 228A; by removing Channel 257C2 and by adding Channel 264C2 at Monroe; by removing Channel 280C1 and adding Channel 256C at Nephi; by removing Channel 248C at Richfield; by removing Channel 280A and by adding Channel 244C1 at Smithfield, and by removing Tremonton, Channel 285C0.

5. Section 73.202(b), the Table of FM Allotments under Wyoming, is amended by removing Channel 256C1 and by adding Channel 280C at Fort Bridger; by removing Channel 259C1 and adding Channel 250C2 at Green River; by adding Lyman, Channel 284C; by removing Channel 283C and adding Channel 259C at Rock Springs; by removing Channel 259A and adding Channel 258A at Saratoga; by removing Channel 266A and Channel 261C and by adding Channel 234A and Channel 282C at Wamsutter.

Federal Communications Commission.
John A. Karousos,
Assistant Chief, Audio Division, Media Bureau.

[FR Doc. 04-14483 Filed 6-24-04; 8:45 am]

BILLING CODE 6712-01-U